DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on two proposed revisions to information collection requests currently approved under OMB control numbers 1660-0071 and 1660-0072. In accordance with the Paperwork Reduction Act of 1995 (44 U.S.C. 3506(c)(2)(A)), this notice seeks comments concerning these collections that are used by: (1) Grantees to apply for and report on eGrant awards; and, (2) FEMA to evaluate, award, and monitor expenditures and program/project performance for Pre-Disaster Mitigation (PDM) and Flood Mitigation Assistance (FMA) program activities.

SUPPLEMENTARY INFORMATION: The proposed information collection requests, upon approval by OMB, will enable FEMA to continue using eGrant applications and reporting for the Pre-Disaster Mitigation (PDM) program and the Flood Mitigation Assistance (FMA) program, which are essential to FEMA's mission to lead America to prepare for prevent, respond to, and recover from disasters. The PDM grant program is the only source of Federal pre-disaster funding available to States and local governments for hazard mitigation. Hazard mitigation is an ongoing effort to lessen the impact disasters have on people's lives and property through damage prevention measures such as removing homes from the floodplain, engineering buildings and infrastructure to withstand earthquakes, installing safe rooms and retrofitting buildings to withstand high winds from tornadoes or hurricanes.

The Disaster Mitigation Act of 2000 (Pub. L. 106-390) authorizes and funded the Pre-Disaster Mitigation (PDM) program to provide a continuous source of pre-disaster mitigation funding independent of disaster declarations to assist States and local communities to take actions to reduce the overall risks to populations and to properties from future disasters. The Flood Mitigation Assistance (FMA) program is an annual program targeted toward reducing flood damages and risks to people and properties. The National Flood Insurance Act of 2004 (Pub. L. 108-264) amended the FMA program by expanding the authorized funds from $20 million to $40 million annually to reduce the risk of floods to the nation's insured properties.

The revised the eGrant application solicits information that is more relevant to the evaluation of competitive applications for PDM and the evaluation of mitigation proposals in general for both the FMA and PDM programs. In addition to program specific changes to the sub-grant application for PDM and FMA eGrants, the information collection requests have been revised to include as part of the eGrant quarterly and final reporting requirement, the financial and performance status reports, outlay reports, property management reports, and closeout reports required of each grant awarded. FEMA encourages the use of the PDM and FMA eGrants application described in this notice; however, applicants may also use the Agency's grant administration paper-based forms currently under OMB control number 1660-0025 to apply.

Information Collection Requests

1. Pre-Disaster Mitigation Program

Title: Pre-Disaster Mitigation (PDM) Program eGrants.

OMB Number: 1660-0071.

Abstract: FEMA uses the PDM program eGrant application, evaluation, and award process to provide Federal grant assistance to grantees (State and federally recognized tribal government) who administer grant awards for sub-grantee applicants (State-level agencies, federally recognized Indian tribal governments, local governments, public colleges and universities, tribal colleges and universities, and regional planning districts and councils of governments). Private-non-profit (PNP) organizations and private colleges and universities are not eligible sub-applicants; however, a relevant state agency or local government may apply to the grant applicant for assistance on their behalf. The grant assistance must be used to develop mitigation plans in accordance with section 322 of the Disaster Mitigation Act of 2000 to implement pre-disaster mitigation projects that reduce the risks of natural and technological hazards on life and property, and to provide information and technical assistance on cost-effective mitigation activities.

Affected Public: The category of affected public includes State, local and tribal governments.

Number of Responses: 1,176 (Grantees (applicants)—56 States and territories and sub-grantees (sub-applicants)—20 per state or territory). Sub-applicants submit their eGrant applications to the States to review, coordinate and forward PDM grant applications to FEMA for approval.

Estimated Time per Respondent: FEMA has estimated the burden associated with this information collection request as follows:

Pre-Disaster Mitigation (PDM) Program eGrants—Grant Supplemental Information—Sub-Grant applications.

• Benefit Cost Determination—5 hours per response.

• Environmental Review—7.5 hours per response.

• Project Narrative (including PDM Evaluation Information Questions)—12 hours per response.

Estimated Total Annual Burden Hours: 50,887.

Frequency of Response: On occasion and quarterly.

2. Flood Mitigation Assistance Program

Title: Flood Mitigation Assistance (FMA) Program eGrants.

OMB Number: 1660-0072.

Abstract: FEMA uses the FMA program eGrant application, evaluation, and award process to provide Federal grant assistance to grantees for three types of grants—Planning, Project, and Technical Assistance. FMA Planning Grants are available to States, National Flood Insurance Program (NFIP) participating communities, and Indian tribal governments to prepare Flood Mitigation Plans. FMA Project Grants are available to States, NFIP participating communities, and Indian tribal governments to implement measures to reduce flood losses. Ten percent of the Project Grant is made available to States, NFIP participating communities, Indian tribal governments, and communities in non-participating States as a Technical Assistance Grant. The National Flood Insurance Reform Act (42 U.S.C. 1366), as amended by the Bunning-Bereuter-Blumenauer Flood Insurance Reform Act of 2004, (Pub. L. 108-264) authorizes the Flood Mitigation Assistance program. The FMA program is designed to award grants to States, NFIP participating communities, and Indian tribal governments so that measures can be taken to reduce or eliminate the long-term risk of flood damage to buildings, manufactured homes, and other structures insurable under the National Flood Insurance Program. FEMA encourages the use of the PDM and FMA eGrants application described in this notice; however, applicants may also use the Agency's grant administration paper-based forms currently under OMB control number 1660-0025 to apply.

Affected Public: The category of affected public includes State, local and tribal governments and Not-for-profit institutions.

Number of Responses: 280.

Estimated Time per Respondent: FEMA has estimated the burden associated with this information collection request as follows:

Flood Mitigation Assistance (FMA) Program eGrants—Grant Supplemental Information—Sub-grant applications.

• Benefit Cost Determination—5 hours per response.

• Environmental Review—7.5 hours per response.

• Project Narrative—12 hours per response.

Estimated Total Annual Burden Hours: 4,088.

Frequency of Response: On occasion and quarterly.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments by mail to: Attn: Section Chief, Records Management Section, Information Resources Management Branch, Information Technology Services Division, Federal Emergency Management Agency, Emergency Preparedness and Response Directorate, Department of Homeland Security, 500 C Street, SW., Room 316, Washington, DC 20472; or by fax to (202) 646-3347; or by e-mail to FEMA-Information-Collections@dhs.gov.

FOR FURTHER INFORMATION CONTACT: Contact the above named organization for additional information or copies of the proposed information collection requests.

Dated: May 10, 2005.
George S. Trotter,
Acting Branch Chief, Information Resources Management Branch, Information Technology Services Division.

[FR Doc. 05-9654 Filed 5-13-05; 8:45 am]

BILLING CODE 0110-13-P